DEPARTMENT OF COMMERCE

National Oceanic and Atmospheric Administration

RIN 0648-XC627

Fisheries of the South Atlantic; South Atlantic Fishery Management Council; Public Meeting

AGENCY: National Marine Fisheries Service (NMFS), National Oceanic and Atmospheric Administration (NOAA), Commerce.

ACTION: Meetings of the South Atlantic Fishery Management Council's Habitat & Environmental Protection Advisory Panel (AP); Coral AP; Joint Meeting of the Habitat & Environmental Protection AP and Coral AP; and Deepwater Shrimp AP.

SUMMARY: The South Atlantic Fishery Management Council (SAFMC) will hold the AP meetings in North Charleston, SC.

DATES: The meetings will be held from 8:30 a.m. on Tuesday, May 7, 2013 until 5 p.m. on Thursday, May 9, 2013.

ADDRESSES: The meetings will be held at the Hilton Garden Inn, 5265 International Boulevard, North Charleston, SC 29418; telephone: (800) 445-8667 or (843) 308-9330; fax: (843) 308-9331.

Council address: South Atlantic Fishery Management Council, 4055 Faber Place Drive, Suite 201, N. Charleston, SC 29405.

FOR FURTHER INFORMATION CONTACT: Kim Iverson, Public Information Officer, SAFMC; telephone: (843) 571-4366 or toll free: (866) SAFMC-10; fax: (843) 769-4520; email: kim.iverson@safmc.net.

SUPPLEMENTARY INFORMATION: The items of discussion in the individual meeting agendas are as follows:

Habitat AP Agenda, Tuesday, May 7, 2013, 8:30 a.m. until 4:30 p.m.

1. Review draft Essential Fish Habitat (EFH) policy statements.

2. Review status of developing a state of the South Atlantic Habitat report.

3. Receive an update on regional ecosystem coordination and South Atlantic Habitat and Ecosystem Atlas/Digital Dashboard.

4. Receive a project/permit update from NOAA Fisheries Habitat Conservation Division.

Coral AP Agenda, Tuesday, May 7, 2013, 1 p.m. Until 5 p.m.

1. Receive an update from NOAA Fisheries Habitat Conservation Division.

2. Receive an update on Coral Nursery Restoration Work and Utilization.

3. Receive an update on the status of the Endangered Species Act (ESA) listing of coral species.

4. Review Coral AP recommendations in Coral Amendment 8, pertaining to Coral Habitat Areas of Particular Concern (HAPCs) and transit through the Oculina HAPC.

5. Proceed with the election of a vice-chair for the AP.

Joint Habitat & Environmental Protection AP and Coral AP Agenda, Wednesday, May 8, 2013, 8:30 a.m. Until 12 p.m.

1. Receive an update on Vessel Monitoring Systems (VMS) data.

2. Review Coral Amendment 8 and recommendations for protecting deepwater habitat complexes associated with extension proposals for Coral HAPCs.

Deepwater Shrimp AP Agenda, Thursday, May 9, 2013, 9 a.m. Until 5 p.m.

1. Receive and discuss Coral Amendment 8, including a review of spatial information on habitat mapping and fishery activity for the modified Coral HAPC area alternatives.

2. Receive a presentation on VMS functionality from NMFS Office of Law Enforcement.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 3 days prior to the meeting.

Note: The times and sequence specified in this agenda are subject to change.

Dated: April 12, 2013.
William D. Chappell,
Acting Deputy Director, Office of Sustainable Fisheries, National Marine Fisheries Service.

[FR Doc. 2013-09073 Filed 4-17-13; 8:45 am]

BILLING CODE 3510-22-P